OFFICE OF THE UNITED STATES TRADE REPRESENTATIVE

[Docket No. WTO/DS285]

WTO Dispute Settlement Proceeding Regarding United States—Measures Affecting the Cross-Border Supply of Gambling and Betting Services

AGENCY: Office of the United States Trade Representative.

ACTION: Notice; request for comments.

SUMMARY: The Office of the United States Trade Representative (“USTR”) is providing notice that the World Trade Organization Dispute Settlement Body (DSB), at the request of Antigua and Barbuda, has established a panel under Article 21.5 of the WTO Understanding on Rules and Procedures Governing the Settlement of Disputes (“DSU”) to examine the compliance of the United States with the DSB recommendations and rulings in the matter of United States—Measures Affecting the Cross-Border Supply of Gambling and Betting Services. The panel request may be found at www.wto.org in a document designated as WT/DS285/18. USTR invites written comments from the public concerning the issues raised in this dispute.

DATES: Although USTR will accept any comments received during the course of the dispute settlement proceedings, comments should be submitted on or before October 23 to be assured of timely consideration by USTR.

ADDRESSES: Comments should be submitted (i) electronically, to FR0701@ustr.eop.gov, Attn: “Gambling and Betting Dispute (DS285)” in the subject line, or (ii) by fax, to Sandy McKinzy at (202) 395-3640. For documents sent by fax, USTR requests that the submitter provide a confirmation copy to the electronic mail address listed above.

FOR FURTHER INFORMATION CONTACT: William Busis, Associate General Counsel, Office of the United States Trade Representative, 600 17th Street, NW., Washington, DC 20508, (202) 395-3150.

SUPPLEMENTARY INFORMATION:

Prior WTO Proceedings

On June 12, 2003, Antigua and Barbuda requested a dispute settlement panel to consider its claims that U.S. Federal, State and territorial laws on gambling violate U.S. commitments under the General Agreement on Trade in Services (GATS), to the extent that such laws prevent or can prevent operators from Antigua and Barbuda from lawfully offering gambling and betting services in the United States. The WTO ruled on April 20, 2005, rejecting all of Antigua and Barbuda's claims except the WTO ruled that for the United States to show that the Federal gambling laws meet the requirements of the chapeau to Article XIV of the GATS, the United States needed to clarify an issue concerning Internet gambling on horse racing. On May 19, 2005, the United States stated its intention to implement the DSB recommendations and rulings. On April 10, 2006, the United States informed the DSB that the United States had complied with the DSB recommendations and rulings.

Issues Raised by Antigua and Barbuda

In its panel request under Article 21.5 of the DSU, Antigua disputes that the United States has complied with the DSB recommendations and rulings. Antigua raises the following issues:

(1) Antigua and Barbuda argues that the United States has not taken any measure to comply with the DSB recommendations and rulings.

(2) Second, Antigua and Barbuda characterizes U.S. compliance as relying on a “restatement of a legal position taken by a party to a dispute,” and argues that such action is legally insufficient under the DSU to amount to compliance.

(3) Third, Antigua and Barbuda disputes that the U.S. compliance brings the measures at issue within the scope of the GATS Article XIV public morals/public order exception.

Public Comment: Requirements for Submissions

Interested persons are invited to submit written comments concerning the issues raised in this dispute. Persons may submit their comments either (i) electronically, to FR0701@ustr.eop.gov, Attn: “Gambling and Betting Dispute (DS285)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “Business Confidential” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “Submitted in Confidence” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; and the U.S. submissions, the submissions, or non-confidential summaries of submissions, received from other participants in the dispute; the report of the panel and; if applicable, the report of the Appellate Body. An appointment to review the public file (Docket No. WT/DS285, Gambling and Betting Dispute) may be made by calling the USTR Reading Room at (202) 395-6186. The USTR Reading Room is open to the public from 9:30 a.m. to noon and 1 p.m. to 4 p.m., Monday through Friday.

Daniel E. Brinza,
Assistant United States Trade Representative for Monitoring and Enforcement.

[FR Doc. E6-17527 Filed 10-18-06; 8:45 am]

BILLING CODE 3190-W7-P